DEPARTMENT OF ENERGY

Federal Energy Regulatory Commission

[Docket No. RP96-320-059]

Gulf South Pipeline Company, LP; Notice of Negotiated Rate Filing

April 17, 2003.

Take notice that on April 11, 2003, Gulf South Pipeline Company, LP (Gulf South) filed with the Commission contracts between Gulf South and the following company for disclosure of a recently negotiated rate transaction. As shown on the contract, Gulf South requests an effective date of June 1, 2003.

Special negotiated rate between Gulf South Pipeline Company, LP and Calpine Central, LP, Contract Nos. 29048 and 29896.

Gulf South states that it has served copies of this filing upon all parties on the official service list created by the Secretary in this proceeding.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 23, 2003.

Magalie R. Salas,
Secretary.

[FR Doc. 03-9993 Filed 4-22-03; 8:45 am]

BILLING CODE 6717-01-P